DEPARTMENT OF HEALTH AND HUMAN SERVICES

Centers for Disease Control and Prevention

Rapid Expansion of HIV/AIDS Activities by Ivorian Nongovernmental Organizations and Associations Serving Highly Vulnerable Populations in Cote d'Ivoire Under the President's Emergency Plan for AIDS Relief

Announcement Type: New.

Funding Opportunity Number: 04199.

Catalog of Federal Domestic Assistance Number: 93.941.

Key Dates:

Application Deadline: July 16, 2004.

I. Funding Opportunity Description

Authority: This program is authorized under sections 307 and 317(k)(2) of the Public Health Service Act, (42 U.S.C. sections 242l and 247b(k)(2)), as amended, and under Public Law 108-25 (United States Leadership Against HIV/AIDS, Tuberculosis and Malaria Act of 2003) (22 U.S.C. 7601).

Purpose: President Bush's Emergency Plan for AIDS Relief (PEPFAR) has called for immediate action to turn the tide of HIV/AIDS in Africa and the Caribbean. Goals of the President's plan include: preventing seven million new HIV infections, treating at least two million HIV-infected people, and caring for ten million HIV-affected individuals and AIDS orphans.

Cote d'Ivoire-specific PEPFAR goals include the prevention of 265,000 new HIV infections, treating at least 77,000 HIV-infected individuals, and caring for 385,000 HIV-affected individuals, including orphans.

The primary purpose of this funding announcement is to increase the quality and coverage of HIV/AIDS prevention and care services targeting Highly Vulnerable Populations (HVP) in Cote d'Ivoire. HVP includes, but is not limited to: displaced persons and refugees, transactional sex workers and their partners, street children, and other vulnerable women.

Services to be supported through this agreement may include, but are not limited to: comprehensive treatment for HIV/AIDS and sexually transmitted infections (STI), voluntary counseling and testing (VCT), prevention activities, support for people infected and affected by HIV/AIDS, peer education, outreach, job skills and literacy training, and legal counseling.

This will be accomplished by funding an international non-governmental organization (NGO) to provide expert technical assistance, training, and oversight to build the capacity of selected Ivorian NGOs and associations (subgrantees) to design, implement, and manage activities for HVPs. The international NGO grantee will also be responsible for helping the Ivorian NGOs and associations improve their ability to mobilize resources and manage the financial and administrative functions of their organizations. The Ivorian nongovernmental organizations and associations will be selected by the international NGO recipient of this award with input from the local CDC office. The selected Ivorian organizations will receive technical assistance and funding to assist them with rapid expansion and improvement activities serving highly vulnerable populations. The CDC office in Cote d'Ivoire will collaborate with the international NGO recipient of this award in the design and implementation of these activities.

These collaborative activities will lead to: (1) Reduction in transmission of HIV and sexually transmitted infections in both the target and general populations; (2) HVP who are living with HIV/AIDS receiving treatment; (3) HVP who are affected by HIV/AIDS receiving better care and support services; (4) promotion and protection of human and legal rights of HVP including protection against sex trafficking; (5) reducing stigma and discrimination against people infected or affected by HIV/AIDS; and (6) building national capacity to implement and manage quality services for HVP.

The measurable outcomes of the program will be in alignment with goals of the Global AIDS Program (GAP) to reduce HIV transmission and improve care of persons living with HIV. They also will contribute to the goals of PEPFAR, which are: within five years treat more than two million HIV-infected persons with effective combination anti-retroviral therapy; care for ten million HIV-infected and affected persons including those orphaned by HIV/AIDS; and prevent seven million infections in 14 countries throughout the world.

Activities: Awardee activities for this program are as follows:

A. Strengthen Operational Capacity

1. Work with selected national NGOs and associations in Cote d'Ivoire that are implementing HIV activities for HVP to assess their current administrative and technical capacity, organizational structure, and challenges to implementing and sustaining activities.

2. Provide training and technical assistance to the national NGOs and associations to expand and improve operational systems (budgeting, personnel, financial oversight, reporting and evaluation) to assure efficient management of activities and funds and increase the organizations' competitiveness for new funding.

3. Support the local organizations in developing skills in resource mobilization.

B. Promote National and Sub-Regional Activities for HVP

Participate in and promote national and sub-regional coordination forums.

C. Expand Quality and Geographic Coverage of HVP Services in Cote d'Ivoire

1. Assist national organizations and associations in development of work plans to design and implement their activities, taking into account geographic and population coverage of services and activities and the diversity of various populations served. The work plan should be elaborated with consideration for sustainability of activities.

2. Assist organizations to develop appropriate tools for activities.

3. Work through national organizations and associations to provide training in peer counseling, outreach, care, support and treatment, skills and literacy training, and legal guidance to the NGOs and associations providing services for HVP.

4. Assess organizations' and associations' resource needs to carry out activities.

5. Finance the delivery of services accordingly.

D. Monitoring and Evaluation

1. Progressively reinforce the monitoring and evaluation capacity of national organizations and associations working with HVP.

2. Attend quarterly technical meetings with CDC to assess program progress and modify plans as needed.

3. Attend annual program review meeting with CDC to assess overall progress and elaborate work plan for subsequent year.

E. Financial Management

1. Prepare a work plan that is consistent with the proposed activities in this announcement.

2. Prepare an annual budget for the proposed activities.

3. Prepare financial and progress reports “ in English—according to CDC requirements and deadlines.

4. Contract an independent auditor, approved by CDC, to ensure ongoing financial accountability and preparation of periodic audit reports, including a possible pre-audit assessment.

In a cooperative agreement, CDC staff is substantially involved in the program activities, above and beyond routine grant monitoring.

CDC Activities for this program are as follows:

1. Collaborate with recipient in designing and supporting all activities listed above with regular technical and administrative meetings.

2. Review and approve grantee's work plans for elaboration of the activities in this agreement.

3. Provide appropriate technical assistance—as agreed upon in work plan “ via persons identified as the CDC technical focal point(s) in Cote d'Ivoire.

4. Hold quarterly technical meetings with grantee to assess progress and modify plans as necessary.

5. Hold annual meeting to review overall progress and elaborate work plans for subsequent year.

6. Collaborate with the grantee in the selection of local NGOs and associations they will work with.

7. Collaborate with the grantee in the selection of key personnel to be involved in the activities performed under this agreement.

8. Provide administrative support on financial requirements (see section VI.3. Reporting).

Technical assistance and training may be provided directly by CDC staff or through organizations that have successfully competed for funding under a separate CDC contract.

II. Award Information

Type of Award: Cooperative Agreement.

CDC involvement in this program is listed in the Activities Section above.

Fiscal Year Funds: 2004.

Approximate Total Funding: $6,000,000.

(This amount is for the entire five-year project period. Yearly amounts will increase based on the expansion of the project.)

Approximate Number of Awards: One.

Approximate Average Award: $350,000.

Floor of Award Range: $350,000.

Ceiling of Award Range: $350,000.

Anticipated Award Date: July 15, 2004.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by international nongovernmental organizations, including faith-based organizations that have experience in: designing and implementing HIV/AIDS activities in Africa; capacity building for local nongovernmental organizations and associations in developing countries (including resource mobilization and administration of funds); and understanding complexities and challenges of designing and implementing activities for HVP.

Preference will be given to organizations that have: (1) an office and staff in francophone West Africa; 2. at least five years of prior experience working in francophone Africa; and 3. a successful history of program implementation in collaboration with the United States (U.S.) government.

III.2. Cost Sharing or Matching

Matching funds are not required for this program.

III.3. Other

If you request a funding amount greater than the ceiling of the award range, your application will be considered non-responsive, and will not be entered into the review process. You will be notified that your application did not meet the submission requirements.

If your application is incomplete or non-responsive to the requirements listed in this section, it will not be entered into the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC web site, at the following Internet address: http://www.cdc.gov/od/pgo/forminfo.htm.

If you do not have access to the Internet, or if you have difficulty accessing the forms on-line, you may contact the CDC Procurement and Grants Office Technical Information Management Section (PGO-TIM) staff at: (770) 488-2700 or the Administrator at the local CDC office in Cote d'Ivoire, Mabel Enti Bohui-Dasse, at (225) 21-25-41-89. Application forms can be mailed to you.

IV.2. Content and Form of Submission

Application: You must submit a project narrative with your application forms. The narrative must be submitted in the following format:

• Maximum number of pages: 25.

If your narrative exceeds this page limit, only the first pages which are within the page limit will be reviewed.

• Pages must be numbered.

• Font size: 12 point unreduced.

• Double spaced.

• Paper size: 8.5 by 11 inches.

• Page margin size: One inch.

• Printed only on one side of page.

• Held together only by rubber bands or metal clips; not bound in any other way.

• Your application MUST be submitted in English

Your narrative should address activities to be conducted over the entire project period, and must include at a minimum, a Plan, Demonstrated understanding of activity, Need for assistance, Objectives, Methods, Timeline, Staff, Performance measures, and Budget justification.

The budget justification will not be counted in the page limit stated above.

Additional information is optional and may be included in the application appendices. The appendices will not be counted toward the narrative page limit. This additional information could include but is not limited to: organizational charts, curricula vitae, letters of support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: July 16, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: (770) 488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds may be spent for reasonable program purposes, including personnel, travel, supplies, and services. Equipment may be purchased if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

• The applicant may contract with other organizations under this program; however the applicant must perform a substantial portion of the activities (including program management and operations, and delivery of prevention services for which funds are required).

• You must obtain an annual audit of these CDC funds (program-specific audit) by a U.S.-based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

• No funds appropriated under this Act shall be used to carry out any program of distributing sterile needles or syringes for the hypodermic injection of any illegal drug.

• The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking, except that this requirement shall not apply to the Global Fund to Fight AIDS, Tuberculosis and Malaria, the World Health Organization, the International AIDS Vaccine Initiative or to any United Nations agency, if such entity is a recipient of U.S. government funds in connection with this document.

The following definitions apply for purposes of this clause:

• Sex trafficking means the recruitment, harboring, transportation, provision, or obtaining of a person for the purpose of a commercial sex act. 22 U.S.C. 7102(9).

• A foreign recipient includes an entity that is not organized under the laws of any State of the United States, the District of Columbia or the Commonwealth of Puerto Rico. Restoration of the Mexico City Policy, 66 FR 17303, 17303 (March 28, 2001).

All recipients must insert provisions implementing the applicable parts of this section, “Prostitution and Related Activities,” in all subagreements under this award. These provisions must be express terms and conditions of the subagreement, acknowledge that each certification to compliance with this section, “Prostitution and Related Activities,” are a prerequisite to receipt of U.S. government funds in connection with this document, and must acknowledge that any violation of the provisions shall be grounds for unilateral termination of the agreement prior to the end of its term. In addition, all recipients must ensure, through contract, certification, audit, and/or any other necessary means, all the applicable requirements in this section, “Prostitution and Related Activities,” are met by any other entities receiving U.S. government funds from the recipient in connection with this document, including without limitation, the recipients' sub-grantees, sub-contractors, parents, subsidiaries, and affiliates. Recipients must agree that HHS may, at any reasonable time, inspect the documents and materials maintained or prepared by the recipient in the usual course of its operations that relate to the organization's compliance with this section, “Prostitution and Related Activities.”

All primary grantees receiving U.S. Government funds in connection with this document must certify compliance prior to actual receipt of such funds in a written statement referencing this document (e.g., “[Recipient's name] certifies compliance with the section, ‘Prostitution and Related Activities.’ ”) addressed to the agency's grants officer. Such certifications are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Awards will allow recipients reimbursement of pre-award costs such as photocopying, fax, postage or delivery charges, and translation.

Guidance for completing your budget can be found on the United States government Web site at the following address: http://www.cdc.gov/od/pgo/funding/budgetguide.htm.

IV.6. Other Submission Requirements

Application Submission Address: Submit the original and two hard copies of your application by mail or express delivery service to: Technical Information Management-PA#04199, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Understanding of the proposed activity (25 points): Does the applicant demonstrate a good understanding of the extent and limitations of the proposed activity?

2. Feasibility of plan (25 points): Does the applicant's proposed plan for the activity appear feasible?

3. Relevant experience (25 points): Does the applicant have skills and experience relevant to the activities described in this program announcement?

1. Administration and management of project (25 points): Does the applicant seem capable of administering this project and meeting all CDC requirements?

V.2. Review and Selection Process

Applications will be reviewed for completeness by the Procurement and Grants Office (PGO) staff, and for responsiveness by NCHSTP. Incomplete applications and applications that are non-responsive to the eligibility criteria will not advance through the review process. Applicants will be notified that their application did not meet submission requirements.

An objective review panel will evaluate complete and responsive applications according to the criteria listed in the “V.1. Criteria” section above.

V.3. Anticipated Announcement and Award Dates

July 15, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR part 74 and part 92

For more information on the Code of Federal Regulations, see the National Archives and Records Administration at the following Internet address: http://www.access.gpo.gov/nara/cfr/cfr-table-search.html.

The following additional requirements apply to this project:

• AR-4—HIV/AIDS Confidentiality Provisions

• AR-6—Patient Care

• AR-10—Smoke-Free Workplace Requirements

• AR-12—Lobbying Restrictions

• AR-14—Accounting System Requirements

Additional information on these requirements can be found on the CDC Web site at the following Internet address: http://www.cdc.gov/od/pgo/funding/ARs.htm.

Information Security Plan

The contractor shall prepare and maintain an information security plan which promotes information protection and systems security appropriate to the environment in which it will be executed. This plan should address confidentiality and privacy, integrity and backup of data and systems, access, continuity of operations, and all other relevant considerations. The contractor is responsible for ensuring that the project complies with relevant Federal and other jurisdictional regulations. Before developing the security plan, the contractor should review the considerations included in Office of Management and Budget Circular A-130, Appendix III (http://www.whitehouse.gov/omb/circulars/a130/a130appendixiii.html), and FISMA (http://csrc.nist.gov/policies/FISMA-final.pdf), as well as other Federal regulations, guidance, and information security standards.

The initial draft and all subsequent versions of the information security plan must be prepared and submitted by the contractor to the CDC contracting officer and to the CDC project officer, in Microsoft Word compatible format. The contractor shall be responsible for ensuring that the security plan is acceptable to the CDC project officer, as well as any subsequent federal reviewers (e.g., Center and/or CDC information security officers, HHS officials, OMB officials, etc.). Comments shall be conveyed to the contractor by the project officer and/or the contracting officer.

The project officer and the contracting officer will review the draft security plan and any subsequent versions and submit recommendations/comments to the contractor within 14 working days after receipt. The contractor shall incorporate the project officer's recommendations and submit paper and electronic copies of the security plan to the contracting officer and to the project officer within five working days after receipt of the project officer's comments.

In addition to developing and maintaining a security plan as described above, the contractor shall be responsible for continuously assessing and assuring information security for the project, and for updating the security plan as needed throughout the duration of the contract.

Information Security Training

The contractor shall be responsible for ensuring that all contractor employees receive employment screening and information security training appropriate to their responsibilities, prior to the start of their work on the contract. This would be provided at the contractor's expense and would be the contractor's responsibility to plan and arrange.

CDC is not required to grant the contractor access to CDC information technology resources (e.g., computers, network, e-mail, etc.). If CDC were to agree to grant the contractor, or any of its employees, access to CDC information technology resources at any point in time, it would be the contractor's responsibility to ensure that all of its employees to be granted such access complete any additional required information security courses that CDC specifies prior to gaining or utilizing such access. It would also be the contractor's responsibility to ensure that such employees have met any other CDC and Federal requirements, such as, for example, completion of background checks, before gaining or utilizing access to CDC information technology resources.

Non-Disclosure

The contractor and any subcontractors or employees are forbidden from sharing any technical or logistical information they may gain in conjunction with matters related to this contract which could jeopardize the physical or information security of CDC or its employees, projects, or information systems.

Certification and Accreditation

The Federal government and CDC now require (with rare interim exceptions) that a certification and accreditation (C and A) process be completed before any new information technology systems can go online.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report are due no more than 90 days after the end of the budget period. The annual progress report is a brief narrative report that should include: (a) comparison of actual accomplishments to the objectives established; (b) the reasons for slippage if established objectives were not met; and (c) modifications, if needed.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: (770) 488-2700.

For program technical assistance, contact: Karen Ryder, Project Officer, CDC/Projet RETRO-CI, 2010 Abidjan Place, Dulles, Virginia 20189-2010, Telephone: (225) 21-25-41-89, e-mail: kkr1@cdc.gov.

For financial, grants management, or budget assistance, contact: Shirley Wynn, Contract Specialist, CDC Procurement and Grants Office, 2920 Brandywine Road, Atlanta, GA 30341, Telephone: (770) 488-1515, E-mail: zbx6@cdc.gov.

Dated: May 21, 2004.
William P. Nichols,
Acting Director, Procurement and Grants Office Centers for Disease Control and Prevention.

[FR Doc. 04-12230 Filed 5-28-04; 8:45 am]

BILLING CODE 4163-18-P